DEPARTMENT OF TRANSPORTATION

Federal Highway Administration

Intelligent Transportation Society of America; Public Meeting

AGENCY: Federal Highway Administration (FHWA), DOT.

ACTION: Notice of Public Meeting.

SUMMARY: The Intelligent Transportation Society of America (ITS America) will hold a meeting of its Board of Directors on Tuesday, July 31, 2001. The meeting begins at 1:00 p.m. The letter designations that follow each item mean the following: (I) Is an information item; (A) is an action item; (D) is a discussion item. The General Session includes the following items: (1) Welcome & Introductions (I); Consent Agenda: (2) Antitrust Statements (I); (3) Minutes from the June 7, 2001 meetings (I); (4) U.S. DOT Federal Report (I); (5) Coordinating Council Report—Program Advice Letter to U.S. DOT on E-9-1-1 (I); (6) State Chapters Council Report (I); (7) State Chapters Council Report (I); (8) International Affairs Council Report (I); (9) Finance Subcommittee Report (I); (10) Other (I); (11) Review and Approval of Resolution on Trade Association Transition (I/D); (12) Future Activities and Programs of ITS America Councils and Principal Committees (I); (13) 10-Year Program Plan and Research Agenda Presentation and Discussion (I); (14) Board & Executive Committee Meeting Schedules; (15) Other business; (16) Adjournment.

ITS America provides a forum for national discussion and recommendations on ITS activities including programs, research needs, strategic planning, standards, international liaison, and priorities.

The charter for the utilization of ITS America establishes this organization as an advisory committee under the Federal Advisory Committee Act (FACA) 5 U.S.C. app. 2, when it provides advice or recommendations to DOT officials on ITS policies and programs. (56 FR 9400, March 6, 1991).

DATES: The Board of Directors of ITS America will meet on Tuesday, July 31, 2001 from 1 p.m.-5 p.m. Room TBA.

ADDRESSES: Resort Semiahmoo, 9565 Semiahmoo Parkway, Blaine, Washington 98230-9326. Phone: (800) 770-7992 or (360) 318-2000. Web address: www.semiahmoo.com.

FOR FURTHER INFORMATION CONTACT: Materials associated with this meeting may be examined at the offices of ITS America, 400 Virginia Avenue, SW, Suite 800, Washington, D.C. 20024. Persons needing further information or who request to speak at this meeting should contact Debbie M. Busch at ITS America by telephone at (202) 484-2904 or by FAX at (202) 484-3483. The DOT contact is Kristy Frizzell, FHWA, HOIT, Washington, D.C. 20590, (202) 366-9536. Office hours are from 8:30 a.m. to 5 p.m., e.t., Monday through Friday, except for legal holidays.

(23 U.S.C. 315; 49 CFR 1.48)

Issued on: July 3, 2001.
Jeffrey Paniati,
Program Manager, ITS Joint Program Office, Department of Transportation.

[FR Doc. 01-17376 Filed 7-10-01; 8:45 am]

BILLING CODE 4910-22-P